DEPARTMENT OF TRANSPORTATION

Federal Aviation Administration

14 CFR Part 39

[Docket No. FAA-2018-0708; Product Identifier 2018-NM-072-AD; Amendment 39-19652; AD 2019-11-06]

RIN 2120-AA64

Airworthiness Directives; The Boeing Company Airplanes

AGENCY: Federal Aviation Administration (FAA), DOT.

ACTION: Final rule.

SUMMARY: The FAA is adopting a new airworthiness directive (AD) for certain The Boeing Company Model 737-600, -700, -700C, -800, -900, and -900ER series airplanes. This AD was prompted by reports of cracks in the skin and a certain chord at three fastener locations common to the drag link assembly at the chord. This AD requires repetitive inspections of the skin under the drag link assembly for any cracks, and applicable on-condition actions. The FAA is issuing this AD to address the unsafe condition on these products.

DATES: This AD is effective July 17, 2019.

The Director of the Federal Register approved the incorporation by reference of a certain publication listed in this AD as of July 17, 2019.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195. It is also available on the internet at http://www.regulations.gov by searching for and locating Docket No. FAA-2018-0708.

Examining the AD Docket

You may examine the AD docket on the internet at http://www.regulations.gov by searching for and locating Docket No. FAA-2018-0708; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Alan Pohl, Aerospace Engineer, Airframe Section, FAA, Seattle ACO Branch, 2200 South 216th St., Des Moines, WA 98198; phone and fax: 206-231-3527; email: alan.pohl@faa.gov.

SUPPLEMENTARY INFORMATION:

Discussion

The FAA issued a notice of proposed rulemaking (NPRM) to amend 14 CFR part 39 by adding an AD that would apply to certain The Boeing Company Model 737-600, -700, -700C, -800, -900, and -900ER series airplanes. The NPRM published in the Federal Register on August 14, 2018 (83 FR 40159). The NPRM was prompted by reports of cracks in the skin and a certain chord at three fastener locations common to the drag link assembly at the chord. The NPRM proposed to require repetitive inspections of the skin under the drag link assembly for any cracks, and applicable on-condition actions.

Comments

The FAA gave the public the opportunity to participate in developing this final rule. The following presents the comments received on the NPRM and the FAA's response to each comment.

Support for the NPRM

American Airlines stated its support for the NPRM. United Airlines stated that it has no technical objections to the NPRM.

Effect of Winglets on Accomplishment of the Proposed Actions

Aviation Partners Boeing (APB) stated that accomplishing the Supplemental Type Certificate (STC) ST00830SE does not affect the ability to accomplish the actions specified in the proposed AD.

The FAA concurs with the commenter. The FAA has redesignated paragraph (c) of the proposed AD as paragraph (c)(1) of this AD and added paragraph (c)(2) to this AD to state that installation of STC ST00830SE does not affect the ability to accomplish the actions required by this AD. Therefore, for airplanes on which STC ST00830SE is installed, a “change in product” alternative method of compliance (AMOC) approval request is not necessary to comply with the requirements of 14 CFR 39.17.

Request To Revise Applicability

Southwest Airlines (SWA) requested that paragraph (c) of the proposed AD be revised to include aircraft with APB STC ST00830SE installed, with either blended or split scimitar winglets. SWA noted that paragraph 1.F of Boeing Alert Service Bulletin 737-53A1368, dated February 27, 2018, addresses the approval statement that the service information is also approved for airplanes having FAA APB STC ST00830SE installed, not including any areas affected by the split scimitar winglet configuration. SWA pointed out that it operates aircraft with STC ST00830SE installed and it has determined the structure within the STC ST00830SE area is subject to the concern addressed by the service information.

The FAA acknowledges the commenter's request. APB has already stated that winglets installed per STC ST00830SE do not affect the ability to accomplish the actions required by this AD. In addition, after the NPRM comment period closed, the FAA contacted APB as a result of SWA's comment and received additional confirmation that STC ST00830SE does not affect the ability to accomplish the actions of this AD. APB stated, “NPRM Docket FAA-2018-0708 was reviewed by APB for all configurations of STC ST00830SE, blended and split scimitar [winglets]. The APB comment of no impact is applicable to all configurations of STC ST00830SE.” As stated above, the FAA has added paragraph (c)(2) to this AD to state that installation of STC ST00830SE does not affect the ability to accomplish the actions required by this AD.

Request To Address Errors in the Service Information

Alaska Airlines (ASA), Delta Airlines (DAL), SWA, and Skymark Airlines (SMA) pointed out multiple errors in Boeing Alert Service Bulletin 737-53A1368, dated February 27, 2018. DAL noted two errors in the service information that they would like to see addressed in order to avoid non-compliance with the proposed AD and reduce confusion. ASA echoed DAL's request to avoid non-compliance with the proposed AD by correcting the service information and pointed out one error within the service information, in addition to the ones noted by other commenters. SWA noted six errors within the service information and requested paragraph (h) of this proposed AD be revised to add exceptions to the service information. For one error, SWA noted that the post-repair instructions of the service information specify inspection standards that differ from established non-destructive test standards, and SWA requested paragraph (h) of this proposed AD be revised to include a provision allowing a deviation from the service information. SMA stated they have found errors in their initial review of the service information, which Boeing has acknowledged.

SMA requested to delay the issuance of the final rule until a revision to Boeing Alert Service Bulletin 737-53A1368 is released and can be incorporated into the final rule. SMA argued that they are obligated to prepare a work instruction document that corrects any errors in the service information and this method is not preferable to SMA for managing the accomplishment of the proposed AD.

The FAA acknowledges the commenters' concerns regarding the information in the service information that requires clarification or correction. In light of the critical nature of the identified unsafe condition, the FAA does not consider it appropriate to delay this final rule until new service information is available. In addition, the amount of clarification needed would be overly complex for inclusion in this AD. Therefore, the FAA has added paragraph (h)(3) to this AD, “Exceptions to Service Information Specifications,” to provide operators with information regarding how to address any actions in the service information that cannot be accomplished. The FAA has also revised paragraph (g) of this AD to include a reference to paragraph (h)(3) of this AD.

We anticipate that Boeing will publish a revision to Boeing Alert Service Bulletin 737-53A1368, dated February 27, 2018, to address known errors. The FAA will consider issuing a global AMOC to address known errors if the new revision is not published soon after the effective date of this AD. After the publication of the revision, the FAA will review the revision in consideration of an AMOC to this AD, or may consider future rulemaking action.

Regarding SWA's comment on post-repair and post-modification inspections, those inspections will not be required by this AD, as discussed in the response to the request below to exclude post-repair and post-modification inspections.

Request To Exclude Post-Repair and Post-Modification Inspections

Boeing and SWA requested that the proposed AD be revised to exclude the post-repair/post-modification inspection requirements specified in Boeing Alert Service Bulletin 737-53A1368, dated February 27, 2018, as AD-mandated actions. The commenters pointed to paragraph (j) of AD 2017-02-10, Amendment 39-18789 (82 FR 10258, February 10, 2017) (“AD 2017-02-10”) as an example of post-repair and post-modification inspections that are specified in the service information but are excepted by the AD.

Note that the service information referenced in AD 2017-02-10 identified post-repair and post-modification inspection procedures, but the AD excepted those inspections because the inspections are airworthiness limitations and are required by maintenance and operational rules. Therefore, it was unnecessary to mandate them in AD 2017-02-10.

The FAA agrees with the commenters' requests for the reasons provided. The FAA infers that SWA meant to include in its comment a reference to Table 5 of paragraph 1.E, Compliance, of Boeing Alert Service Bulletin 737-53A1368, dated February 27, 2018. This table is associated with the Part 8 post-repair inspections of the Accomplishment Instructions. The FAA has added paragraph (h)(4) to exclude the post-repair and post-modification inspection requirements specified in Parts 8, 9, 10, and 11 of the Accomplishment Instructions of Boeing Alert Service Bulletin 737-53A1368, dated February 27, 2018, as AD-mandated actions. The FAA has also revised paragraph (g) of this AD to include a reference to paragraph (h)(4) of this AD.

In addition, Parts 8, 9, 10, and 11 of the Accomplishment Instructions of Boeing Alert Service Bulletin 737-53A1368, dated February 27, 2018, were incorrectly labeled as required for compliance (RC). This will likely be corrected in a future revision to this service bulletin.

Request To Include Optional Terminating Action

SWA requested to add a paragraph that specifies an AMOC for the requirements of paragraph (g) of AD 2013-19-23, Amendment 39-17605 (78 FR 61173, October 3, 2013) (“AD 2013-19-23”). SWA pointed out that the accomplishment of Part 4 or Part 5 of the Accomplishment Instructions of Boeing Alert Service Bulletin 737-53A1368, dated February 27, 2018, will prohibit the D626A001-9-01 inspection for Principal Structural Element (PSE) 53-30-02-4, as required by paragraph (g) of AD 2013-19-23.

The FAA partially agrees with the commenter's request. After the NPRM comment period closed, the FAA queried Boeing and confirmed that this repair should indeed be considered a method of compliance, as suggested by SWA. The FAA has added paragraph (j) to this AD to allow an optional terminating action for the inspections of PSE 53-30-02-4 required by the airworthiness limitations specified in paragraph (g) of AD 2013-19-23. The optional terminating action is the accomplishment of the actions specified in Part 4 or Part 5 of the Accomplishment Instructions of Boeing Alert Service Bulletin 737-53A1368, dated February 27, 2018. The FAA has also revised paragraph (b) of this AD to reflect that this AD affects AD 2013-19-23.

Request To Add Inspection Condition of “No Crack Found”

ASA noted that Tables 1, 2, and 3 of paragraph 1.E., “Compliance” of Boeing Alert Service Bulletin 737-53A1368, dated February 27, 2018, are missing Condition 1.3, which should provide instructions on how to proceed in the case that no crack is found during the specified inspection. ASA suggested using the same language found in Condition 2.3 of Tables 1, 2, and 3 of paragraph 1.E., “Compliance” of Boeing Alert Service Bulletin 737-53A1368, dated February 27, 2018. ASA reasoned that it requires clear and correct reference documents to develop accurate engineering documents and avoid noncompliance with the requirements of the AD.

The FAA agrees with the commenter's request for the reasons provided. There should also be a Condition 1.3 in the appropriate places in the Accomplishment Instructions as well as paragraph 1.E., Compliance. These issues have been coordinated with Boeing, and they have indicated that this will be addressed in a future revision to Boeing Alert Service Bulletin 737-53A1368, dated February 27, 2018. The FAA has added paragraph (h)(5) to this AD to provide instructions regarding how to proceed if no crack is found upon accomplishment of Part 3 of the Accomplishment Instructions of Boeing Alert Service Bulletin 737-53A1368, dated February 27, 2018. The FAA has also revised paragraph (g) of this AD to include a reference to paragraph (h)(5) of this AD.

Request To Approve AMOCs for AD 2017-02-10

ASA requested to revise the proposed AD to include AMOCs previously approved for AD 2017-02-10. ASA pointed out that during their accomplishment of AD 2017-02-10, they completed repairs in the same area as specified in Boeing Alert Service Bulletin 737-53A1368, dated February 27, 2018.

The FAA does not agree with the request to allow AMOCs previously approved for AD 2017-02-10 to be approved for this AD. After the NPRM comment period closed, the FAA coordinated this issue with Boeing. Boeing indicated that different types of repairs have been encountered during the service history of Boeing Special Attention Service Bulletin 737-53-1294, Revision 2, dated December 9, 2015, which is referred to as the appropriate source of service information for accomplishing the required actions specified in AD 2017-02-10. For some repairs required by this AD, an AMOC approved for AD 2017-02-10 would also be suitable for this AD. However, this is not the case for all types of repairs, and therefore, all AMOCs previously approved for AD 2017-02-10 cannot be approved for this AD. This AD has not been changed in this regard.

Request To Add Material Incorporated by Reference Paragraph

Boeing requested to add a paragraph to the proposed AD titled “Material Incorporated by Reference,” stating that this paragraph is missing.

For clarification, the paragraph titled “Material Incorporated by Reference” is not currently included in NPRMs, but is included in all final rule ADs.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

The FAA reviewed Boeing Alert Service Bulletin 737-53A1368, dated February 27, 2018. This service information describes procedures for an ultrasonic inspection of the skin under the drag link assembly and repair for any cracks; repetitive inspections for any cracks, including ultrasonic inspections, high frequency eddy current (HFEC) inspections, low frequency eddy current (LFEC) inspections, and detailed inspections; and a preventive modification if no crack is found. This service information is reasonably available because the interested parties have access to it through their normal course of business or by the means identified in the ADDRESSES section.

Costs of Compliance

The FAA estimates that this AD affects 1,664 airplanes of U.S. registry. The FAA estimates the following costs to comply with this AD:

Estimated Costs for Required Actions
Action | Labor cost | Parts cost | Cost per product | Cost on U.S. operators
Inspection | 28 work-hours × $85 per hour = $2,380 per inspection cycle | $0 | $2,380 per inspection cycle | $3,960,320 per inspection cycle.

The FAA estimates the following costs to do any necessary on-condition actions that would be required. The FAA has no way of determining the number of aircraft that might need these on-condition actions:

Estimated Costs of On-Condition Actions
Labor cost | Parts cost | Cost per product
Up to 56 work-hours × $85 per hour = $4,760 | $24,020 | Up to $28,780.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-11-06 The Boeing Company: Amendment 39-19652; Docket No. FAA-2018-0708; Product Identifier 2018-NM-072-AD.

(a) Effective Date

This AD is effective July 17, 2019.

(b) Affected ADs

This AD affects AD 2013-19-23, Amendment 39-17605 (78 FR 61173, October 3, 2013) (“AD 2013-19-23”).

(c) Applicability

(1) This AD applies to The Boeing Company Model 737-600, -700, -700C, -800, -900, and -900ER series airplanes, certificated in any category, as identified in Boeing Alert Service Bulletin 737-53A1368, dated February 27, 2018.

(2) Installation of Supplemental Type Certificate (STC) ST00830SE does not affect the ability to accomplish the actions required by this AD. Therefore, for airplanes on which STC ST00830SE is installed, a “change in product” alternative method of compliance (AMOC) approval request is not necessary to comply with the requirements of 14 CFR 39.17.

(d) Subject

Air Transport Association (ATA) of America Code 53, Fuselage.

(e) Unsafe Condition

This AD was prompted by reports of cracks in the skin and the station (STA) 540 bulkhead chord at the three fastener locations common to the drag link assembly at the STA 540 bulkhead chord. The FAA is issuing this AD to address cracking in the STA 540 bulkhead chord or skin, which could result in the inability of a primary structural element to sustain limit load. This condition, if not addressed, could result in possible rapid decompression and loss of structural integrity of the airplane.

(f) Compliance

Comply with this AD within the compliance times specified, unless already done.

(g) Required Actions

Except as required by paragraphs (h)(1) through (h)(5) of this AD: At the applicable times specified in paragraph 1.E., “Compliance,” of Boeing Alert Service Bulletin 737-53A1368, dated February 27, 2018, do all applicable actions identified as “RC” (required for compliance) in, and in accordance with, the Accomplishment Instructions of Boeing Alert Service Bulletin 737-53A1368, dated February 27, 2018.

(h) Exceptions to Service Information Specifications

(1) For purposes of determining compliance with the requirements of this AD: Where Boeing Alert Service Bulletin 737-53A1368, dated February 27, 2018, uses the phrase “the original issue date of this service bulletin,” this AD requires using “the effective date of this AD.”

(2) Where Boeing Alert Service Bulletin 737-53A1368, dated February 27, 2018, specifies contacting Boeing: This AD requires repair before further flight using a method approved in accordance with the procedures specified in paragraph (k) of this AD.

(3) If any action(s) identified as RC in Boeing Alert Service Bulletin 737-53A1368, dated February 27, 2018, cannot be accomplished as specified therein, those action(s) must be accomplished using a method approved in accordance with the procedures specified in paragraph (k) of this AD.

(4) Parts 8, 9, 10, and 11 of the Accomplishment Instructions of Boeing Alert Service Bulletin 737-53A1368, dated February 27, 2018, specify post-repair/modification airworthiness limitation inspections in compliance with 14 CFR 25.571(a)(3) at the repaired/modified locations to support compliance with 14 CFR 121.1109(c)(2) or 129.109(b)(2). Although Parts 8, 9, 10, and 11 of the Accomplishment Instructions of Boeing Alert Service Bulletin 737-53A1368, dated February 27, 2018, are identified as RC, this AD does not require accomplishment of Parts 8, 9, 10, and 11 of the Accomplishment Instructions of Boeing Alert Service Bulletin 737-53A1368, dated February 27, 2018. As airworthiness limitations, these inspections are required by maintenance and operational rules. It is therefore unnecessary to mandate them in this AD. Deviations from these inspections require FAA approval, but do not require approval of an AMOC.

(5) For airplanes on which any crack is found during any Part 2 inspection specified in Boeing Alert Service Bulletin 737-53A1368, dated February 27, 2018, and no crack is found during the Part 3 inspection specified in the Accomplishment Instructions of Boeing Alert Service Bulletin 737-53A1368, dated February 27, 2018: Before further flight, do the preventative modification specified in Part 5 of the Accomplishment Instructions of Boeing Alert Service Bulletin 737-53A1368, dated February 27, 2018, on each side of the airplane on which no crack was found during the Part 3 inspection.

(i) Optional Terminating Action for Repetitive Inspections

(1) Accomplishment of the repair in accordance with Part 4 of the Accomplishment Instructions of Boeing Alert Service Bulletin 737-53A1368, dated February 27, 2018, terminates the repetitive inspections specified in Part 2 of the Accomplishment Instructions of Boeing Alert Service Bulletin 737-53A1368, dated February 27, 2018, on the side of the airplane on which the repair was done, as required by paragraph (g) of this AD.

(2) Accomplishment of the preventive modification in accordance with Part 5 of the Accomplishment Instructions of Boeing Alert Service Bulletin 737-53A1368, dated February 27, 2018, terminates the repetitive inspections specified in Part 2 or Part 6, as applicable, of the Accomplishment Instructions of Boeing Alert Service Bulletin 737-53A1368, dated February 27, 2018, on the side of the airplane on which the preventive modification was done, as required by paragraph (g) of this AD.

(j) Optional Terminating Action for Certain Requirements of AD 2013-19-23

Accomplishment of the repair specified in Part 4 or the modification specified in Part 5 of the Accomplishment Instructions of Boeing Alert Service Bulletin 737-53A1368, dated February 27, 2018, terminates the repetitive inspections specified in the airworthiness limitations required by paragraph (g) of AD 2013-19-23 for Principal Structural Element (PSE) 53-30-02-4 on the side of the airplane on which the repair or modification was done.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, to make those findings. To be approved, the repair method, modification deviation, or alteration deviation must meet the certification basis of the airplane, and the approval must specifically refer to this AD.

(4) Except as specified in paragraphs (h)(2) through (h)(5) of this AD: For service information that contains steps that are labeled as RC, the provisions of paragraphs (k)(4)(i) and (k)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(l) Related Information

For more information about this AD, contact Alan Pohl, Aerospace Engineer, Airframe Section, FAA, Seattle ACO Branch, 2200 South 216th St., Des Moines, WA 98198; phone and fax: 206-231-3527; email: alan.pohl@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 737-53A1368, dated February 27, 2018.

(ii) [Reserved]

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Transport Standards Branch, 2200 South 216th St., Des Moines, WA. For information on the availability of this material at the FAA, call 206-231-3195. (5) You may view this service information that is incorporated by reference at the National Archives and Records Administration (NARA). For information on the availability of this material at NARA, call 202-741-6030, or go to: http://www.archives.gov/federal-register/cfr/ibr-locations.html.

Issued in Des Moines, Washington, on May 29, 2019.
Michael Kaszycki,
Acting Director, System Oversight Division, Aircraft Certification Service.

[FR Doc. 2019-12322 Filed 6-11-19; 8:45 am]

BILLING CODE 4910-13-P